DEPARTMENT OF THE INTERIOR

National Park Service

[NPS-WASO-VRP-WS-NPS37177; PPWOVPADW0—244—PPMPRLE1Y.LB0000]

Evaluation and Authorization Procedures for Fixed Anchors and Fixed Equipment in National Park Service Wilderness Areas—Extension of Public Comment Period

AGENCY: National Park Service, Interior.

ACTION: Notice of availability; extension of public comment period.

SUMMARY: The National Park Service extends the public comment period for a draft Wilderness Stewardship Reference Manual 41 guidance governing the management of climbing activities in wilderness areas in the National Park System. Extending the comment period will allow more time for the public to review the proposal and submit comments.

DATES: The public comment period for the draft Wilderness Stewardship Reference Manual 41 guidance that published on November 17, 2023 (88 FR 80333), is extended. We will accept comments received or postmarked on or before 11:59 p.m. MT on January 30, 2024.

ADDRESSES:

Document Availability: The draft guidance is available online at: https://parkplanning.nps.gov/RM41_fixed_anchors.

Comment Submission: You may submit written comments by one of the following methods:

• Electronically: https://parkplanning.nps.gov/RM41_fixed_anchors.

• Mail or Hand Deliver to: Fixed Anchors, National Park Service, 1849 C Street NW, MS-2457, Washington, DC 20240.

Instructions: Comments will not be accepted by fax, email, or in any way other than those specified above. Comments delivered on external electronic storage devices (flash drives, compact discs, etc.) will not be accepted. Bulk comments in any format (hard copy or electronic) submitted on behalf of others will not be accepted.

FOR FURTHER INFORMATION CONTACT: Roger Semler, Wilderness Stewardship Division Manager, National Park Service, (202-430-7615), fixed_anchors@nps.gov.

SUPPLEMENTARY INFORMATION: On November 17, 2023, the National Park Service (NPS) published in the Federal Register (88 FR 80333) a notice of availability of a draft Wilderness Stewardship Reference Manual 41 guidance governing the management of climbing activities in wilderness areas in the National Park System. The public comment period for this proposal is scheduled to close on Tuesday, January 16, 2024. In order to give the public additional time to review and comment on the proposal, the NPS is extending the public comment period until Tuesday, January 30, 2024. Comments previously submitted on the draft guidance need not be resubmitted.

Michael P. Michener,
Deputy Associate Director, Visitor and Resource Protection, National Park Service.

[FR Doc. 2024-00315 Filed 1-9-24; 8:45 am]

BILLING CODE 4312-52-P